DEPARTMENT OF COMMERCE

National Oceanic and Atmospheric Administration

RIN 0648-XA222

Gulf Spill Restoration Planning; Public Scoping Meetings for the Programmatic Environmental Impact Statement for the Deepwater Horizon Oil Spill

AGENCY: National Marine Fisheries Service (NMFS), National Oceanic and Atmospheric Administration (NOAA), U.S. Department of Commerce.

ACTION: Notice; public scoping meetings.

SUMMARY: In a February 17, 2011, Federal Register notice, the National Oceanic and Atmospheric Administration (NOAA), National Marine Fisheries Service (NMFS) announced in a notice of intent that it, on behalf of the Trustee Council, will begin restoration scoping and preparation of a Programmatic Environmental Impact Statement (PEIS) for the Deepwater Horizon Oil Spill that began on April 20, 2010, Mississippi Canyon Block 252 (“the Oil Spill”). The notice announced NOAA's intent to hold public scoping meetings in eleven (11) locations in the five Gulf of Mexico States and in Washington, DC, but it did not include meeting details. The meeting details for these locations are available now.

The purpose of the Gulf Spill Restoration Planning PEIS is to identify restoration types and establish a programmatic framework and procedures that will enable the Trustees to expedite the selection and implementation of restoration projects to compensate the public and the environment for loss of natural resources and services from the Oil Spill.

DATES: All public scoping meetings will begin at 7:30 p.m. (local time) and doors will open at 6:30 p.m., except in Grand Isle, Houma, and Morgan City, Louisiana, which will start at 6:30 p.m. and open doors at 5:30 p.m. For scoping meetings dates and locations see Scoping Meetings under the SUPPLEMENTARY INFORMATION section.

ADDRESSES: Written scoping comments on suggested restoration types should be sent to: NOAA Restoration Center, Attn: DWH PEIS Comments, 263 13th Avenue South, Suite 166, St. Petersburg, FL 33701. Electronic comments are strongly encouraged, and can be submitted to http://www.gulfspillrestoration.noaa.gov. All written comments must be received by the close of the scoping process to be considered. Scoping will close 90 days after the February 17, 2011 NOI, on Tuesday, May 18, 2011. A public announcement will be provided in a future Federal Register document to remind the public at the end of the scoping period.

FOR FURTHER INFORMATION CONTACT:

NOAA—Brian Hostetter at 888.547.0174 or by e-mail at gulfspillcomments@noaa.gov;

DOI—Robin Renn by e-mail at Robin_Renn@fws.gov;

AL— Will Gunter by e-mail at William.Gunter@dcnr.alabama.gov;

FL—Lee Edminston or Gil McRae by e-mail at Lee.Edminston@dep.state.fl.us or Gil.McRae@myfwc.com;

LA—Karolien Debusschere by e-mail at karolien.debusschere@la.gov;

MS—Richard Harrell by e-mail at Richard_Harrell@deq.state.ms.us;

TX—Don Pitts by e-mail at Don.Pitts@tpwd.state.tx.us.

To be added to the Oil Spill PEIS mailing list, please visit: www.gulfspillrestoration.noaa.gov.

SUPPLEMENTARY INFORMATION:

Scoping Meetings

The meetings have been scheduled for:

1. Wednesday, March 16, 2011: Escambia County Central Office Complex, 3363 West Park Place, Pensacola, FL. This is across the street from the Escambia County Health Department at 1295 West Fairfield Drive in Pensacola, FL.

2. Thursday, March 17, 2011: Bay County Government Center, County Commissioner Chambers, 840 W. 11th Street, Panama City, FL.

3. Monday, March 21, 2011: The Donald Snyder Community Center, Main Floor, 2520 Pass Rd., Biloxi, MS.

4. Tuesday, March 22, 2011: Belle Chasse Public Library, 8442 Highway 23, Belle Chasse, LA.

5. Wednesday, March 23, 2011: Five Rivers—Alabama's Delta Resource Center, 30945 Five Rivers Blvd., Spanish Fort, AL.

6. Thursday, March 24, 2011: Houma-Terrebonne Civic Center, 346 Civic Center Blvd., Houma, LA.

7. Monday, March 28, 2011: The Grand Isle Community Center, 3811 Highway 1, Grand Isle, LA.

8. Tuesday, March 29, 2011: Holiday Inn, 520 Roderick St., Morgan City, LA.

9. Wednesday, March 30, 2011: Port Arthur Civic Center, 3401 Cultural Center Drive, Port Arthur, TX.

10. Thursday, March 31, 2011: Texas A & M at Galveston Ocean and Coastal Studies Building, Seawolf Parkway, Bldg. 3029, Galveston, TX.

11. Monday, April 4, 2011: U.S. Department of Commerce, Herbert Hoover Bldg. Auditorium, 1401 Constitution Ave., NW., Washington, DC.

National Marine Fisheries Service (NMFS), National Oceanic and Atmospheric Administration (NOAA), U.S. Department of Commerce is the lead agency for the preparation of the PEIS on behalf of United States Department of the Interior (on behalf of the Fish and Wildlife Service, the National Park Service, the Bureau of Land Management and the Bureau of Indian Affairs) (“DOI”); the Louisiana Coastal Protection and Restoration Authority, the Louisiana Oil Spill Coordinator's Office, the Louisiana Department of Environmental Quality, the Louisiana Department of Wildlife and Fisheries, and the Louisiana Department of Natural Resources, for the State of Louisiana; the Mississippi Department of Environmental Quality, for the State of Mississippi; the Alabama Department of Conservation and Natural Resources and the Geological Survey of Alabama, for the State of Alabama; the Florida Department of Environmental Protection and the Florida Fish and Wildlife Conservation Commission for the State of Florida; and the Texas Parks and Wildlife Department, Texas General Land Office, and the Texas Commission on Environmental Quality, for the State of Texas. The notice of intent to begin restoration scoping and prepare a Programmatic Environmental Impact Statement published at 76 FR 9327, February 17, 2011.

The National Environmental Policy Act (NEPA), 42 U.S.C. 4321 et seq., and the Council on Environmental Quality regulations implementing NEPA under 40 CFR Chapter V applies to restoration actions by Federal trustees. The Federal and state Trustees will be developing a PEIS to help guide restoration actions associated with the Natural Resource Damage Assessment (NRDA) for the Oil Spill. The PEIS will assess the environmental, social, and economic attributes of the affected environment and the potential consequences of alternative actions to restore, rehabilitate, replace, or acquire the equivalent of natural resources and services potentially injured by the spill. A PEIS may generally be prepared to evaluate actions that encompass a large geographic scale. Tiered analyses considering particular restoration actions may be required in the future as specific plans for implementing particular alternatives are established.

The purpose of the scoping process is to identify the concerns of the affected public and for the Federal agencies, states, and Indian tribes to involve the public early in the decision making process, facilitate an efficient PEIS preparation process, define the issues and alternatives that will be examined in detail, and save time by ensuring that draft documents adequately address relevant issues. The scoping process reduces paperwork and delay by ensuring that important issues are addressed early. Following the scoping process, the Trustees will prepare a draft PEIS, at which time the public will be encouraged to comment on the document. Similar to the scoping process, public comment meetings will be held at that time to gather oral and written public input on the draft PEIS.

In compliance with 15 CFR 990.45, the Trustees will prepare an Administrative Record (AR). The AR will include documents that the Trustees relied on during the development of the PEIS. After preparation, the Record will be on file at the NOAA Restoration Center in Silver Spring, MD, and duplicate copies will be maintained at the following Web site: http://www.darrp.noaa.gov/. The specific web page will be provided in the next public notice.

The draft PEIS document is intended to be released for public comment by Fall/Winter, 2011. Specific dates and times for future events will be publicized when scheduled.

Dated: February 23, 2011.
Patricia A. Montanio,
Director, Office of Habitat Conservation, National Marine Fisheries Service.

[FR Doc. 2011-4540 Filed 3-1-11; 8:45 am]

BILLING CODE 3510-22-P